DEPARTMENT OF TRANSPORTATION

Federal Aviation Administration

Notice of Intent To Rule on Application 02-01-C-00-JLN To Impose and Use the Revenue From a Passenger Facility Charge (PFC) at Joplin Regional Airport, Joplin, MO

AGENCY: Federal Aviation Administration, (FAA), DOT.

ACTION: Notice of intent to rule on application.

SUMMARY: The FAA proposes to rule and invites public comment on the application to impose and use the revenue from a PRF at Joplin Regional Airport under the provisions of the Aviation Safety and Capacity Expansion Act of 1990 (Title IX of the Omnibus Budget Reconciliation Act of 1990) (Pub. L. 101-508) and part 158 of the Federal Aviation Regulations (14 CFR part 158).

DATES: Comments must be received on or before December 2, 2002.

ADDRESSES: Comments on this application may be mailed or delivered in triplicate to the FAA at the following address: Federal Aviation Administration, Central Region, Airports Division, 901 Locust, Kansas City, MO 64106.

In addition, one copy of any comments submitted to the FAA must be mailed or delivered to Mr. Steve Stockam, Airport Manager, Joplin Regional Airport, at the following address: 303 E. 3rd Street, Joplin, MO 64802.

Air carriers and foreign air carriers may submit copies of written comments previously provided to the City of Joplin, Joplin Regional Airport, under section 158.23 of part 158.

FOR FURTHER INFORMATION CONTACT: Lorna Sandridge, PFC Program Manager, FAA, Central Region, 901 Locust, Kansas City, MO 64106, (816) 329-2641. The application may be reviewed in person at this same location.

SUPPLEMENTARY INFORMATION: The FAA proposes to rule and invites public comment on the application to impose and use the revenue from a PFC at the Joplin Regional Airport under the provisions of the Aviation Safety and Capacity Expansion Act of 1990 (Title IX of the Omnibus Budget Reconciliation Act of 1990) (Pub. L. 101-508) and part 158 of the Federal Aviation Regulations (14 CFR part 158).

On October 11, 2002, the FAA determined that the application to impose and use the revenue from a PFC submitted by the City of Joplin, Missouri, was substantially complete within the requirements of section 158.25 of part 158. The FAA will approve or disapprove the application, in whole or in part, no later than January 17, 2003.

The following is a brief overview of the application.

Level of the proposed PFC: $.50.

Proposed change effective date: April, 2003.

Proposed change expiration date: July 2, 2008.

Total estimated PFC revenue: $889,663.

Brief description of proposed project(s): Airport Rescue and Fire Fighting (ARFF) vehicle acquisition; runway and taxiway sign installation; Runway 18/36 extension and parallel taxiway site preparation (Phase 1); Runway 18/36 extension and parallel taxiway site preparation (Phase 2); pave, mark and light Runway 18 extension, partial parallel taxiway and connecting taxiways to Runway 18, install deer fence, purchase a medium-intensity approach light system and runway alignment indicator lights (MALSR); purchase handicap lift; install runway 18 navigational aids; construct Taxiway K; construct apron expansion; construct access road; Runway 13/31 safety area improvements and airport signage/lighting enhancements; new passenger terminal building (Phase 1) design.

Any person may inspect the application in person at the FAA office listed above under FOR FURTHER INFORMATION CONTACT.

In addition, any person may, upon request, inspect the application, notice and other documents germane to the application in person at the Joplin Regional Airport.

Dated: Issued in Kansas City, Missouri, on October 11, 2002.
George A. Hendon,
Manager, Airports Division, Central Region.

[FR Doc. 02-27729 Filed 10-30-02; 8:45 am]

BILLING CODE 4910-13-M